DEPARTMENT OF HOUSING AND URBAN DEVELOPMENT

[Docket No. FR-5630-N-02]

Rental Assistance Demonstration: Extension of Public Comment Period and Clarification of Demonstration Components

AGENCY: Office of the Assistant Secretary for Public and Indian Housing and Office of the Assistant Secretary for Housing-Federal Housing Commissioner, HUD.

ACTION: Notice.

SUMMARY: On March 8, 2012, HUD published a notice in the Federal Register inviting public comments on the demonstration notice posted on HUD's Web site entitled “Rental Assistance Demonstration—Partial Implementation and Request for Comments” (Program Notice). This notice extends the due date for the submission of comments on the Program Notice. In addition, HUD is taking this opportunity to clarify the scope of the demonstration that took effect on March 8, 2012.

DATES: Comment Due Date: The new date for the submission of comments on the Program Notice is April 23, 2012.

Effective Date: The effective date announced in the March 8, 2012, notice is unchanged. The provisions regarding the conversion of Rent Supp and RAP properties under Section III of the Program Notice were effective on March 8, 2012. The Moderate Rehabilitation (Mod Rehab) provisions detailed in Section II of the Program Notice are not in effect until HUD reviews the public comments and issues a notice in the Federal Register.

ADDRESSES: Interested persons are invited to submit comments on applicable parts of the March 8, 2012, notice to the Regulations Division, Office of General Counsel, Department of Housing and Urban Development, 451 7th Street SW., Room 10276, Washington, DC 20410-0500. All submissions and communications must refer to “Rental Assistance Demonstration: Notice of Web Availability and Request for Comments” docket number FR-5630-N-01. There are two methods for submitting public comments.

1. Submission of Comments by Mail. Comments may be submitted by mail to the Regulations Division, Office of General Counsel, Department of Housing and Urban Development, 451 7th Street SW., Room 10276, Washington, DC 20410-0500.

2. Electronic Submission of Comments. Interested persons may submit comments electronically through the Federal eRulemaking Portal at www.regulations.gov. HUD strongly encourages commenters to submit comments electronically. Electronic submission of comments allows the commenter maximum time to prepare and submit a comment, ensures timely receipt by HUD, and enables HUD to make them immediately available to the public. Comments submitted electronically through the www.regulations.gov Web site can be viewed by other commenters and interested members of the public. Commenters should follow the instructions provided on that site to submit comments electronically.

Note: To receive consideration as public comments, comments must be submitted through one of the two methods specified above. Again, all submissions must refer to the docket number and title of the rule. Also, to expedite review of public comments, it is recommended commenters should organize their comments by specific topical areas and section numbers and label those areas accordingly.

No Facsimile Comments. Facsimile (FAX) comments are not acceptable.

Public Inspection of Public Comments. All properly submitted comments and communications submitted to HUD will be available for public inspection and copying between 8 a.m. and 5 p.m. weekdays at the above address. Due to security measures at the HUD Headquarters building, an advance appointment to review the public comments must be scheduled by calling the Regulations Division at 202-402-3055 (this is not a toll-free number). Individuals with speech or hearing impairments may access this number via TTY by calling the Federal Relay Service, toll-free, at 800-877-8339. Copies of all comments submitted are available for inspection and downloading at www.regulations.gov.

FOR FURTHER INFORMATION CONTACT: To assure a timely response, please electronically direct requests for further information to this email address: rad@hud.gov. Written requests may also be directed to the following address: Office of Public and Indian Housing—RAD Program, Department of Housing and Urban Development, 451 7th Street SW., Room 2000; Washington, DC 20410.

SUPPLEMENTARY INFORMATION:

I. Background

On March 8, 2012, at 77 FR 14029, HUD published in the Federal Register a notice announcing HUD's Rental Assistance Demonstration (RAD) program, which provides the opportunity to test the conversion of public housing and other HUD-assisted properties to long-term, project-based Section 8 rental assistance to achieve certain goals, including the preservation and improvement of these properties through access by public housing agencies (PHAs) and owners to private debt and equity to address immediate and long-term capital needs; the extent to which residents have increased housing choices after the conversion; and the overall impact of conversion on the subject properties. The March 8, 2012, notice advised that HUD posted on its Web site the full details of the demonstration in a Program Notice entitled “Rental Assistance Demonstration-Partial Implementation and Request for Comments.” HUD refers the reader to the March 8, 2012, Federal Register notice for detailed information about RAD, as well as to the Program Notice, posted on HUD's Web site at www.hud.gov/rad. This notice extends the due date for the submission of public comments on the Program Notice to April 23, 2012, and clarifies the scope of the demonstration that took effect on March 8, 2012.

II. Extension of Public Comment Due Date

The March 8, 2012, notice solicited public comment on the demonstration and established a comment due date of April 9, 2012. In order to ensure that interested members of the public have sufficient time to prepare and submit comments, HUD is extending the due date for the submission of comments on the Program Notice until April 23, 2012.

III. Clarification of Demonstration Scope

As provided in the March 8, 2012, notice and in the Program Notice, RAD consists of two components. The first component, which is covered under Sections I and II of the Program Notice for PHAs and Mod Rehab owners, respectively, allows projects funder under HUD's public housing and Mod Rehab programs to convert to long-term Section 8 rental assistance contracts. Under this first component, PHAs and Mod Rehab owners may apply to HUD to convert to one of two forms of Section 8 Housing Assistance Payment (HAP) contracts: Project-based vouchers (PBVs) or project-based rental assistance (PBRA).

The second component, which is covered under Section II of the Program Notice, for owners of Mod Rehab projects, and under Section III of the Program Notice, for owners of Rent Supplement (Rent Supp) and Rental Assistance (RAP) projects, of the Program Notice, allows projects funded under the Mod Rehab, Rent Supp and RAP programs, with a contract expiration or termination occurring after October 1, 2006, and no later than September 30, 2013, to convert tenant protection vouchers (TPVs) to PBVs.

The “Effective Date” section of the March 8, 2012, notice provided that the conversion of Rent Supp and RAP Properties under Section III of the Program Notice were effective on March 8, 2012.

The March 8, 2012 notice, at 77 FR 14030, following the explanation of the Section II and Section III provisions of the second component stated, inconsistent with the “Effective Date” provision, “These provisions are effective immediately.”

Accordingly, this notice clarifies the scope of the sections of the demonstration that are effective on March 8, 2012, to eliminate any confusion made by the statement at the end of the explanation of the second component at 77 FR 14030. The only provisions that are effective immediately are, as provided in the “Effective Date” section of the notice, those of Section III of the Program Notice for the conversion of Rent Supp and RAP Properties. The Section II provisions for properties funded under Mod Rehab, which are part of the discussion of the second component, are not yet in effect.

Dated: March 30, 2012.
Deborah Hernandez,
General Deputy Assistant Secretary for Public and Indian Housing.
Carol J. Galante,
Acting Assistant Secretary for Housing—Federal Housing Commissioner.

[FR Doc. 2012-8210 Filed 4-3-12; 8:45 am]

BILLING CODE 4210-67-P